INTERNATIONAL TRADE COMMISSION

[Investigation No. 332-511]

ASEAN: Regional Trends in Economic Integration, Export Competitiveness, and Inbound Investment for Selected Industries

AGENCY: United States International Trade Commission.

ACTION: Institution of investigation and scheduling of hearing.

SUMMARY: Following receipt on November 9, 2009, of a request from the United States Trade Representative (USTR) under section 332(g) of the Tariff Act of 1930 (19 U.S.C. 1332(g)), the U.S. International Trade Commission (Commission) instituted investigation No. 332-511, ASEAN: Regional Trends in Economic Integration, Export Competitiveness, and Inbound Investment for Selected Industries.

DATES:

December 30, 2009: Deadline for filing requests to appear at the public hearing.

January 5, 2010: Deadline for filing pre-hearing briefs and statements.

February 3, 2010: Public hearing.

February 10, 2010: Deadline for filing post-hearing briefs and statements.

March 10, 2010: Deadline for filing all other written submissions.

August 2, 2010: Transmittal of Commission report to the USTR.

ADDRESSES: All Commission offices, including the Commission's hearing rooms, are located in the United States International Trade Commission Building, 500 E Street, SW., Washington, DC. All written submissions should be addressed to the Secretary, United States International Trade Commission, 500 E Street, SW., Washington, DC 20436. The public record for this investigation may be viewed on the Commission's electronic docket (EDIS) at http://www.usitc.gov/secretary/edis.htm.

FOR FURTHER INFORMATION CONTACT: Project leader John Fry (202-708-4157 or john.fry@usitc.gov) or deputy project leader Vincent Honnold (202-205-3314 or vincent.honnold@usitc.gov) for information specific to this investigation. For information on the legal aspects of this investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (http://www.usitc.gov). Persons with mobility impairments who will need special assistance in gaining access to the Commission should contact the Office of the Secretary at 202-205-2000.

Background: As requested by the USTR, the Commission will conduct an investigation and prepare a report that provides a brief overview of regional trends in economic integration, export competitiveness, and inbound investment in six industry sectors in Southeast Asia. The sectors are electronics, automotives, agro-based products, healthcare, textiles and apparel, and wood-based products. In addition, the Commission will identify ASEAN industries within these sectors that have experienced significant changes in regional economic integration, export competitiveness, and inbound investment in recent years and provide profiles of these industries in its report. To the extent possible, the report will include illustrative country information and be based on the most recent five year period for which data are available. As requested, each industry profile, to the extent possible, will include the following information:

1. A description of the selected industry(ies) within ASEAN, including the industry's position relative to global competitors, as it relates to export competitiveness and inbound investment flows;

2. Identification of the leading ASEAN exporting countries and their key markets;

3. Identification of the leading ASEAN country recipients of inbound investment and source countries of that investment;

4. Identification of pairs or groups of countries within ASEAN that have experienced significant integration related to industry production and/or marketing; and

5. An analysis of leading competitive factors that have contributed to changes in industry regional integration, export competitiveness, and inbound investment, with a focus on how regional improvements in trade facilitation, logistics services, and e-commerce have contributed to these changes.

The USTR requested that the Commission deliver its report no later than August 2, 2010.

Public Hearing: A public hearing in connection with this investigation will be held at the U.S. International Trade Commission Building, 500 E Street, SW., Washington, DC, beginning at 9:30 a.m. on Wednesday, February 3, 2010. Requests to appear at the public hearing should be filed with the Secretary no later than 5:15 p.m., December 30, 2009, in accordance with the requirements in the “Submissions” section below. All pre-hearing briefs and statements should be filed no later than 5:15 p.m., January 5, 2010; and all post-hearing briefs and statements responding to matters raised at the hearing should be filed no later than 5:15 p.m., February 10, 2010. In the event that, as of the close of business on December 30, 2009, no witnesses are scheduled to appear at the hearing, the hearing will be canceled. Any person interested in attending the hearing as an observer or nonparticipant may call the Office of the Secretary (202-205-2000) after December 30, 2009, for information concerning whether the hearing will be held.

Written Submissions: In lieu of or in addition to participating in the hearing, interested parties are invited to file written submissions concerning this investigation. All written submissions should be addressed to the Secretary, and all such submissions (other than pre- and post-hearing briefs and statements) should be received no later than 5:15 p.m., March 10, 2010. All written submissions must conform with the provisions of section 201.8 of the Commission's Rules of Practice and Procedure (19 CFR 201.8). Section 201.8 requires that a signed original (or a copy so designated) and fourteen (14) copies of each document be filed. In the event that confidential treatment of a document is requested, at least four (4) additional copies must be filed, in which the confidential information must be deleted (see the following paragraph for further information regarding confidential business information). The Commission's rules authorize filing submissions with the Secretary by facsimile or electronic means only to the extent permitted by section 201.8 of the rules (see Handbook for Electronic Filing Procedures, http://www.usitc.gov/secretary/fed_reg_notices/rules/documents/handbook_on_electronic_filing.pdf). Persons with questions regarding electronic filing should contact the Office of the Secretary (202-205-2000).

Any submissions that contain confidential business information must also conform with the requirements of section 201.6 of the Commission's Rules of Practice and Procedure (19 CFR 201.6). Section 201.6 of the rules requires that the cover of the document and the individual pages be clearly marked as to whether they are the “confidential” or “nonconfidential” version, and that the confidential business information be clearly identified by means of brackets. All written submissions, except for confidential business information, will be made available for inspection by interested parties.

In its request letter, the USTR stated that it intends to make the Commission's report available to the public in its entirety, and asked that the Commission not include any confidential business information in the report it sends to the USTR. Any confidential business information received by the Commission in this investigation and used in preparing this report will not be published in a manner that would reveal the operations of the firm supplying the information.

Issued: December 1, 2009.
By order of the Commission.
William R. Bishop,
Acting Secretary to the Commission.

[FR Doc. E9-29025 Filed 12-4-09; 8:45 am]

BILLING CODE P